DEPARTMENT OF AGRICULTURE

Food Safety and Inspection Service

[Docket No. 00-044N]

Codex Alimentarius: Meetings of the Codex Committee on Food Import and Export Inspection and Certification Systems

AGENCY: Office of the Under Secretary for Food Safety, USDA.

ACTION: Notice of public meetings, request for comments.

SUMMARY: The Office of the Under Secretary for Food Safety, U.S. Department of Agriculture (USDA), the Food and Drug Administration (FDA), and the U.S. Department of Health and Human Services (HHS), are sponsoring two public meetings, on November 7 and November 21, 2000, to provide information and receive public comments on agenda items that will be discussed at the Codex Committee on Food Import and Export Inspection and Certification Systems (CCFICS), which will be held in Perth, Australia, on December 11-15, 2000. The Under Secretary and FDA recognize the importance of of CCFICS and to address items on the Agenda. providing interested parties the opportunity to obtain background information on the Seventh Session

DATES: The public meetings are scheduled for Friday, November 7, 2000 from 1:00 p.m. to 4:00 p.m., and Tuesday, November 21, 2000 from 1:00 p.m. to 4:00 p.m.

ADDRESSES: The public meetings will be held in Conference Room 1409, Federal Office Building 8, Food and Drug Administration, 200 C Street, SW., Washington, DC. Submit one original and two copies of written comments to the FSIS Docket Room, Docket # 00-044N, U.S. Department of Agriculture, Food Safety and Inspection Service, Room 102, Cotton Annex, 300 12th Street, SW., Washington, DC 20250-3700. To receive copies of the documents referenced in this notice, contact the FSIS Docket Room at the above address. The documents will also be accessible via the World Wide Web at the following address: http://www.fao.org/waicent/faoinfo/ECONOMIC/esn/codex/ccfics9/fc00_01e.htm.

All comments received in response to this notice will be considered part of the public record and will be available for viewing in the Docket Room between 8:30 a.m. and 4:30 p.m., Monday through Friday.

FOR FURTHER INFORMATION CONTACT: Patrick J. Clerkin, Associate U.S. Manager for Codex, U.S. Codex Office, FSIS, Room 4861, South Building, 1400 Independence Avenue SW., Washington, DC 20250-3700, telephone (202) 205-7760; Fax: (202) 720-3157. Persons requiring a sign language interpreter or other special accommodations should notify Mr. Patrick J. Clerkin at the above phone number.

SUPPLEMENTARY INFORMATION:

Background

The Codex Alimentarius Commission (Codex) was established in 1962 by two United Nations organizations, the Food and Agriculture Organization (FAO) and the World Health Organization (WHO). Codex is the major international organization for encouraging fair international trade in food and protecting the health and economic interests of consumers. Through adoption of food standards, codes of practice, and other guidelines developed by its committees, and by promoting their adoption and implementation by governments, Codex seeks to ensure that the world's food supply is sound, wholesome, free from adulteration, and correctly labeled.

CCFICS was established to develop principles and guidelines for: Food import and export inspection and certification systems, the application of measures by competent authorities of importing and exporting countries to provide assurance that foods comply with essential requirements, the utilization of quality assurance systems, and the format and content of official certificates.

Issues To Be Discussed at the Public Meeting

The following issues and referenced documents will be discussed during the public meetings:

• Matters Referred from Other Codex Committees, DOCUMENT CX/FICS 00/2

• Draft Guidelines for Generic Official Certificate Formats and the Production and Issuance of Certificates, Comments at Step 6, DOCUMENT CX/FICS 00/3, DOCUMENT CX/FICS 00/3-Add.1

• Proposed Draft Guidelines for Food Import Control Systems, Comments at Step 3, DOCUMENT CX/FICS 00/4, DOCUMENT CX/FICS 00/4-Add.1

• Proposed Draft Guidelines for the Utilization and Promotion of Quality Assurance Systems to Meet Requirements in Relation to Food, Comments at Step 3, DOCUMENT CX/FICS 00/5, DOCUMENT CX/FICS 00/5-Add.1

• Proposed Draft Guidelines on the Judgement of Equivalence of Sanitary Measures Associated with Food Inspection and Certification Systems, Comments at Step 3, DOCUMENT CX/FICS 00/6, DOCUMENT CX/FICS 00/6-Add.1

• Proposed Draft Guidelines on the Judgement of Equivalence of Technical Regulations Associated with Food Inspection and Certification Systems, Comments at Step 3, DOCUMENT CX/FICS 00/7, DOCUMENT CX/FICS 00/7-Add.1

• Discussion Paper on Risk Management Guidelines for Food Control Emergency Situations Involving International Trade, DOCUMENT CX/FICS 00/8

• Discussion Paper on Food Export Control Systems, DOCUMENT CX/FICS 00/9

In advance of the meetings, the U.S. Delegate to CCFICS will have assigned responsibility for development of U.S. positions on these issues to members of the U.S. government. The individuals assigned responsibility will be named at the meetings and will take comments and develop draft U.S. positions. All interested parties are invited to provide information and comments on the above issues, or on any other issues that may be brought before CCFICS.

Public Meetings

At the November 3rd public meeting, the issues will be described and discussed, and attendees will have the opportunity to pose questions and offer comments. At the November 21 public meeting, draft United States positions on the issues will be described and discussed, and attendees will have the opportunity to pose questions and offer comments.

Please state that your comments relate to CCFICS activities and specify which issues your comments address.

Additional Public Notification

Public awareness of all segments of rulemaking and policy development is important. Consequently, in an effort to better ensure that minorities, women, and persons with disabilities are aware of this notice, FSIS will announce it and provide copies of this Federal Register publication in the FSIS Constituent Update. FSIS provides a weekly FSIS Constituent Update, which is communicated via fax to over 300 organizations and individuals. In addition, the update is available on-line through the FSIS web page located at http://www.fsis.usda.gov. The update is used to provide information regarding FSIS policies, procedures, regulations, Federal Register notices, FSIS public meetings, recalls, and any other types of information that could effect or would be of interest to our constituents/stakeholders. The constituent fax list consists of industry, trade, farm, and consumer interest groups, allied health professionals and scientific professionals, and other individuals that have requested to be included. Through these various channels, FSIS is able to provide information to a much broader, more diverse audience. For more information and to be added to the constituent fax list, fax your request to the FSIS Congressional and Public Affairs Office, at (202) 720-5704.

Done at Washington, DC on: October 23, 2000.
F. Edward Scarbrough,
U.S. Manager for Codex.

[FR Doc. 00-27617 Filed 10-26-00; 8:45 am]

BILLING CODE 3410-DM-P